NATIONAL SCIENCE FOUNDATION

Notice of Permit Applications Received Under the Antarctic Conservation Act of 1978 (Public Law 95-541)

AGENCY: National Science Foundation.

ACTION: Notice of permit modification received under the Antarctic Conservation Act of 1978. Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by October 29, 2003. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implement the “Agreed Measures for the Conservation of Antarctic Fauna and Flora” for all United States citizens. The Agreed Measures, developed by the Antarctic Treaty Consultative Parties, recommended establishment of a permit system for various activities in Antarctica and designation of certain animals and certain geographic areas requiring special protection. The regulations establish such a permit system to designate Specially Protected Areas and Sites of Special Scientific Interest.

Description of Permit Modification Requested: The Foundation issued a permit (ACA #2004-002) to Laurence J. Conrad on June 27, 2003. The issued permit allows the applicant to access several Antarctic Specially Protected Areas of photographing named geographic features and historic huts throughout the McMurdo Sound Area. The photographs will be used to illustrate a geographically arranged gazetteer or “field guide”.

The applicant requests a modification to his permit to allow access to the Antarctic Specially Protected Area of Cape Crozier, Ross Island (ASPA #124). The applicant was unaware the boundaries of the site had been expanded in the new Management Plan, which now included Wilson's Stone Igloo and the Knoll. The applicant would like to enter the site for the purpose of taking documentary photography from those locations to be used in the gazetteer. They do not plan to venture near the penguin rookery or the skua nesting areas.

Location: Cape Crozier (ASPA #124).

Dates: October 15, 2003 to February 28, 2004.

Nadene G. Kennedy,
Permit Officer, Office of Polar Programs.

[FR Doc. 03-24532 Filed 9-26-03; 8:45 am]

BILLING CODE 7555-01-M